GENERAL SERVICES ADMINISTRATION

41 CFR Chapter 301

[FTR Amendment 93]

RIN 3090-AH27

Federal Travel Regulation; Maximum Per Diem Rates in Minnesota

AGENCY: Office of Governmentwide Policy, GSA.

ACTION: Final rule.

SUMMARY: This final rule amends the Federal Travel Regulation (FTR) Amendment 87, published in the Federal Register on Thursday, December 2, 1999 (64 FR 67670). In order to provide adequate per diem reimbursement for Federal employee travel in Duluth, Minnesota, the maximum lodging allowance is changed to reflect seasonal rates.

DATES: This final rule is effective July 21, 2000, and applies to travel performed on or after July 21, 2000.

FOR FURTHER INFORMATION CONTACT: Joddy Garner, Office of Governmentwide Policy, Travel and Transportation Management Policy Division, at 202-501-1538.

SUPPLEMENTARY INFORMATION:

A. Background

The General Services Administration (GSA), after an analysis of additional data, has determined that the current lodging allowance for Duluth, Minnesota, does not adequately reflect the cost of lodging in this area. To provide adequate per diem reimbursement for Federal employee travel for this area, the maximum lodging allowance is changed to reflect seasonal rates.

B. Regulatory Flexibility Act

This final rule is not required to be published in the Federal Register for notice and comment; therefore, the Regulatory Flexibility Act does not apply.

C. Executive Order 12866

GSA has determined that this rule is not a significant regulatory action for the purposes of Executive Order 12866 of September 30, 1993.

D. Paperwork Reduction Act

The Paperwork Reduction Act does not apply because the rule does not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Chapter 301

Government employees, Travel and transportation expenses.

For the reasons set forth in the preamble, under 5 U.S.C. 5701-5709, 41 CFR chapter 301 is amended as follows:

CHAPTER 301—TEMPORARY DUTY (TDY) TRAVEL ALLOWANCES

1. Appendix A to chapter 301 is amended by revising the entry in the table under the State of Minnesota, city of Duluth, St. Louis County. The page of the table beginning with Frankfort and ending with Gulfport, which includes the Duluth revision, reads as follows:

BILLING CODE 6820-34-M

Appendix A to Chapter 301—Prescribed Maximum per Diem Rates for Conus

* * * * *

* * * * *

Dated: July 13, 2000.
David J. Barram,
Administrator of General Services.

[FR Doc. 00-18329 Filed 7-20-00; 8:45 am]

BILLING CODE 6820-34-C